DEPARTMENT OF ENERGY

Agency Information Collection Extension

AGENCY: U.S. Department of Energy.

ACTION: Notice and request for comments.

SUMMARY: The Department of Energy (DOE), pursuant to the Paperwork Reduction Act of 1995, intends to extend for three years the information collection packages listed at the end of this notice. Comments are invited on: (a) Whether the extended information collections are necessary for the proper performance of the functions of the agency, including whether the information has practical utility; (b) the accuracy of the agency's estimate of the burden of the information collections, including the validity of the methodology and assumptions used; (c) ways to enhance the quality, utility, and clarity of the information to be collected; and (d) ways to minimize the burden of the information collections on respondents, including through the use of automated collection techniques or other forms of information technology.

Comments submitted in response to this notice will be summarized and included in the request for Office of Management and Budget review and approval of these information collections; they also will become a matter of public record.

DATES: Comments regarding these proposed information collections must be received on or before March 13, 2006. If you anticipate difficulty in submitting comments within that period, contact the person listed below as soon as possible.

ADDRESSES: Written comments may be sent to: Jeffrey Martus, IM-11/Germantown Building, U.S. Department of Energy, 1000 Independence Ave., SW., Washington, DC 20585-1290 or by fax at 301-903-9061 or by e-mail at Jeffrey.martus@hq.doe.gov.

FOR FURTHER INFORMATION CONTACT: Requests for additional information or copies of the information collection instrument and instructions should be directed to Jeffrey Martus at the address listed above in ADDRESSES.

SUPPLEMENTARY INFORMATION: The information collection packages listed in this notice for public comment include the following:

1. (1) OMB No.: 1910-0300. (2) Package Title: Environment, Safety and Health. (3) Type of Review: Renewal. (4) Purpose: This information is required to ensure that environment, safety, and health resources and requirements are managed efficiently and effectively and to exercise management oversight of DOE contractors. (5) Respondents: 11,344. (6) Estimated Number of Burden Hours: 269,475.

2. (1) OMB No.: 1910-0500. (2) Package Title: Financial Management. (3) Type of Review: Renewal. (4) Purpose: This information is required by the Department to ensure that financial management resources and requirements are managed efficiently and effectively and to exercise management oversight of DOE contractors. (5) Respondents: 12,626. (6) Estimated Number of Burden Hours: 152,704.

3. (1) OMB No.: 1910-5101. (2) Package Title: U.S. Dept. of Energy: Annual Alternative Fuel Vehicle Acquisition Report for State Government & Alternative Fuel Provider Fleets. (3) Type of Review: Renewal. (4) Purpose: This collection is critical to ensure the Government has sufficient information to ensure that covered fleets are complying with annual reporting and acquisition requirements under the Alternative Fuel Transportation Program. (5) Respondents: 310. (6) Estimated Number of Burden Hours: 1,550.

4. (1) OMB No.: 1910-5102. (2) Package Title: Make-or-Buy Plans. (3) Type of Review: Renewal. (4) Purpose: This information is required by the Department to ensure the Department's management and operations are sub-contracting in the most cost-effective and efficient manner and to exercise management and oversight of DOE contractors. (5) Respondents: 36. (6) Estimated Number of Burden Hours: 5,350.

5. (1) OMB No.: 1910-5111. (2) Package Title: Purchasing by DOE Management and Operating Contractors from Contractor Affiliated Sources. (3) Type of Review: Renewal. (4) Purpose: This information is critical to ensure the Government has sufficient information to judge the degree to which awardees meet the terms of their agreement and ensure that improper organization conflicts are not created. (5) Respondents: 20. (6) Estimated Number of Burden Hours: 100.

6. (1) OMB No. 1910-5121. (2) Package Title: End-Use Certificate. (3) Type of Review: Renewal. (4) Purpose: This information is required to ensure that respondents acquiring High Risk Property are responsible, not debarred bidders, Specially Designated Nationals or Blocked Persons, or have not violated U.S. export laws and to advise them of compliance with export laws and regulations. (5) Respondents: 5,000. (6) Estimated Number of Burden Hours: 1,650.

Statutory Authority: Department of Energy Organization Act, Public Law 95-91.

Issued in Washington, DC on December 30, 2005.
Sharon A. Evelin,
Director, Records Management Division, Office of the Chief Information Officer.

[FR Doc. E6-220 Filed 1-11-06; 8:45 am]

BILLING CODE 6450-01-P